DEPARTMENT OF HEALTH AND HUMAN SERVICES

Centers for Disease Control and Prevention

Disease, Disability, and Injury Prevention and Control Special Emphasis Panels (SEP): Evaluation of Breastfeeding Promotion and Support Programs, Potential Extramural Project (PEP) 2006-R-01

In accordance with Section 10(a)(2) of the Federal Advisory Committee Act (Pub. L. 92-463), the Centers for Disease Control and Prevention (CDC) announces the following meeting:

Name: Disease, Disability, and Injury Prevention and Control Special Emphasis Panel (SEP): Evaluation of Breastfeeding Promotion and Support Programs, PEP 2006-R-01.

Time and Date: 8 a.m.-4 p.m., April 27, 2006 (Closed).

Place: Centers for Disease Control and Prevention, Global Communications Center, 1600 Clifton Road, NE., Room 254/255 Atlanta, GA 30333, Telephone Number 404-639-3138.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of applications received in response to: Evaluation of Breastfeeding Promotion and Support Programs, PEP 2006-R-01.

For Further Information Contact: Christine Morrison, PhD, Scientific Review Administrator, CDC, 1600 Clifton Road, NE., Mailstop D-72, Atlanta, GA 30333, Telephone Number 404-639-3098.

The Director, Management Analysis and Services Office, has been delegated the authority to sign Federal Register notices pertaining to announcements of meetings and other committee management activities, for both CDC and the Agency for Toxic Substances and Disease Registry.

Dated: March 28, 2006.
Alvin Hall,
Director, Management Analysis and Services Office, Centers for Disease Control and Prevention.

[FR Doc. E6-4780 Filed 3-31-06; 8:45 am]

BILLING CODE 4163-18-P